DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or email patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: July 13, 2017.
Roy E. Wright,
Deputy Associate Administrator for Insurance and Mitigation, Department of Homeland Security, Federal Emergency Management Agency.

State and county | Location and case No. | Chief executive officer of community | Community map repository | Effective date of modification | Community No.
Alaska:
Fairbanks North Star Borough (FEMA Docket No.: B-1669) | Fairbanks North Star Borough (16-10-1346P) | The Honorable Karl Kassel, Mayor, Fairbanks North Star Borough, P.O. Box 71267, Fairbanks, AK 99707 | Department of Community Planning Borough Administrative Center, 809 Pioneer Road, Fairbanks, AK 99701 | Mar. 3, 2017 | 025009
Kenai Peninsula Borough (FEMA Docket No.: B-1702) | City of Homer (17-10-0041P) | The Honorable Bryan Zak, Mayor, City of Homer, 2525 Sterling Highway, Homer, AK 99603 | City of Homer Planning and Zoning Office, 491 East Pioneer Avenue, Homer, AK 99603 | Mar. 31, 2017 | 020107
Arizona:
Maricopa (FEMA Docket No.: B-1669) | City of Chandler (16-09-2684P) | The Honorable Jay Tibshraeny, Mayor, City of Chandler, City Hall, 175 South Arizona Avenue, Chandler, AZ 85225 | Public Works Department, 215 East Buffalo Street, Chandler, AZ 85244 | Mar. 10, 2017 | 040040
Maricopa (FEMA Docket No.: B-1669) | City of Scottsdale (16-09-1225P) | The Honorable W.J. “Jim” Lane, Mayor, City of Scottsdale, 3939 North Drinkwater Boulevard, Scottsdale, AZ 85251 | Planning Records, 7447 East Indian School Road, Suite 100, Scottsdale, AZ 85251 | Mar. 23, 2017 | 045012
Maricopa (FEMA Docket No.: B-1702) | City of Surprise (16-09-1336P) | The Honorable Sharon Wolcott, Mayor, City of Surprise, 16000 North Civic Center Plaza, Surprise, AZ 85374 | Public Works Department, 16000 North Civic Center Plaza, Surprise, AZ 85374 | Apr. 14, 2017 | 040053
Maricopa (FEMA Docket No.: B-1669) | Town of Gilbert (16-09-2684P) | The Honorable Jenn Daniels, Mayor, Town of Gilbert, 50 East Civic Center Drive, Gilbert, AZ 85296 | Municipal Center, 50 East Civic Center Drive, Gilbert, AZ 85296 | Mar. 10, 2017 | 040044
Maricopa (FEMA Docket No.: B-1669) | Town of Wickenburg (16-09-1385P) | The Honorable John Cook, Mayor, Town of Wickenburg, 155 North Tegner Street, Suite A, Wickenburg, AZ 85390 | Town Hall, 155 North Tegner Street, Wickenburg, AZ 85390 | Mar. 17, 2017 | 040056
Maricopa (FEMA Docket No.: B-1669) | Unincorporated Areas of Maricopa County (16-09-1225P) | The Honorable Clint L. Hickman, Chairman, Board of Supervisors, Maricopa County, 301 West Jefferson Street, 10th Floor, Phoenix, AZ 85003 | Flood Control District of Maricopa County, 2801 West Durango Street, Phoenix, AZ 85009 | Mar. 23, 2017 | 040037
Maricopa (FEMA Docket No.: B-1669) | Unincorporated Areas of Maricopa County (16-09-1385P) | The Honorable Clint L. Hickman, Chairman, Board of Supervisors, Maricopa County, 301 West Jefferson Street, 10th Floor, Phoenix, AZ 85003 | Flood Control District of Maricopa County, 2801 West Durango Street, Phoenix, AZ 85009 | Mar. 17, 2017 | 040037
Pima (FEMA Docket No.: B-1669) | City of Tucson (16-09-0670P) | The Honorable Jonathan Rothschild, Mayor, City of Tucson, City Hall, 255 West Alameda Street, 10th Floor, Tucson, AZ 85701 | Planning and Development Services, 201 North Stone Avenue, 1st Floor, Tucson, AZ 85701 | Mar. 3, 2017 | 040076
Pima (FEMA Docket No.: B-1669) | Town of Marana (16-09-1535P) | The Honorable Ed Honea, Mayor, Town of Marana, 11555 West Civic Center Drive, Marana, AZ 85653 | Pima County Flood Control District, 201 North Stone Avenue, 9th Floor, Tucson, AZ 85701 | Mar. 14, 2017 | 040118
Pima (FEMA Docket No.: B-1702) | Unincorporated Areas of Pima County (16-09-1770P) | The Honorable Sharon Bronson, Chair, Board of Supervisors, Pima County, 130 West Congress Street, 11th Floor, Tucson, AZ 85701 | Pima County Flood Control District, 201 North Stone Avenue, 9th Floor, Tucson, AZ 85701 | Mar. 21, 2017 | 040073
Pima (FEMA Docket No.: B-1702) | Unincorporated Areas of Pima County (16-09-1863P) | The Honorable Sharon Bronson, Chair, Board of Supervisors, Pima County, 130 West Congress Street, 11th Floor, Tucson, AZ 85701 | Pima County Flood Control District, 201 North Stone Avenue, 9th Floor, Tucson, AZ 85701 | Apr. 4, 2017 | 040073
Pinal (FEMA Docket No.: B-1702) | City of Coolidge (16-09-1229P) | The Honorable Jon Thompson, Mayor, City of Coolidge, 130 West Central Avenue, Coolidge, AZ 85228 | City Hall, 130 West Central Avenue, Coolidge, AZ 85228 | May 4, 2017 | 040082
Pinal (FEMA Docket No.: B-1702) | Unincorporated Areas of Pinal County (16-09-1229P) | The Honorable Cheryl Chase, Chair, Board of Supervisors, Pinal County, 135 North Pinal Street, Florence, AZ 85132 | Pinal County Engineering Department, 31 North Pinal Street, Building F, Florence, AZ 85132 | May 4, 2017 | 040077
California:
Orange (FEMA Docket No.: B-1669) | City of Mission Viejo (16-09-1691P) | The Honorable Frank Ury, Mayor, City of Mission Viejo, 200 Civic Center, Mission Viejo, CA 92691 | City Hall, 200 Civic Center, Mission Viejo, CA 92691 | Mar. 20, 2017 | 060735
Placer (FEMA Docket No.: B-1669) | City of Rocklin (16-09-1095P) | The Honorable Greg Janda, Mayor, City of Rocklin, 3970 Rocklin Road, Rocklin, CA 95677 | Engineering Department, 3970 Rocklin Road, Rocklin, CA 95677 | Mar. 10, 2017 | 060242
Placer (FEMA Docket No.: B-1669) | Town of Loomis (16-09-1095P) | The Honorable Brian Baker, Mayor, Town of Loomis, 3665 Taylor Road, Loomis, CA 95650 | Town Hall, 3665 Taylor Road, Loomis, CA 95650 | Mar. 10, 2017 | 060721
Riverside (FEMA Docket No.: B-1669) | City of Moreno Valley (16-09-2170P) | The Honorable Yxstian Gutierrez, Mayor, City of Moreno Valley, 14177 Frederick Street, Moreno Valley, CA 92553 | Public Works Department, 14177 Frederick Street, Moreno Valley, CA 92553 | Mar. 6, 2017 | 065074
Riverside (FEMA Docket No.: B-1669) | City of Riverside (16-09-2070P) | The Honorable Rusty Bailey, Mayor, City of Riverside, 3900 Main Street, Riverside, CA 92501 | Planning and Building Department, 3900 Main Street, Riverside, CA 92501 | Mar. 20, 2017 | 060260
Riverside (FEMA Docket No.: B-1669) | Unincorporated Areas of Riverside County (16-09-2070P) | The Honorable John Benoit, Chairman, Board of Supervisors, Riverside County, 4080 Lemon Street, 5th Floor, Riverside, CA 92501 | Riverside County Flood Control and Water Conservation District, 1995 Market Street, Riverside, CA 92502 | Mar. 20, 2017 | 060245
San Benito (FEMA Docket No.: B-1669) | City of Hollister (16-09-0929P) | The Honorable Ignacio Velazquez, Mayor, City of Hollister, 375 5th Street, Hollister, CA 95023 | City Hall, 375 5th Street, Hollister, CA 95023 | Feb. 27, 2017 | 060268
San Benito (FEMA Docket No.: B-1669) | Unincorporated Areas of San Benito County (16-09-0929P) | The Honorable Robert Rivas, Chairman, Board of Supervisors, San Benito County, 481 4th Street, 1st Floor, Hollister, CA 95023 | San Benito County Planning Department, 2301 Technology Parkway, Hollister, CA 95023 | Feb. 27, 2017 | 060267
San Diego (FEMA Docket No.: B-1702) | City of Escondido (16-09-2974P) | The Honorable Sam Abed, Mayor, City of Escondido, 201 North Broadway, Escondido, CA 92025 | City Hall, 201 North Broadway, Escondido, CA 92025 | Apr. 18, 2017 | 060290
San Diego (FEMA Docket No.: B-1702) | City of Oceanside (16-09-1302P) | The Honorable Jim Wood, Mayor, City of Oceanside, 300 North Coast Highway, Oceanside, CA 92054 | City Hall, 300 North Coast Highway, Oceanside, CA 92054 | Apr. 13, 2017 | 060294
San Diego (FEMA Docket No.: B-1702) | Unincorporated Areas of San Diego County (16-09-1695P) | The Honorable Ron Roberts, Chairman, Board of Supervisors, San Diego County, 1600 Pacific Highway, Room 335, San Diego, CA 92101 | Department of Public Works, Flood Control, 5510 Overland Avenue, Suite 410, San Diego, CA 92123 | Mar. 28, 2017 | 060284
San Diego (FEMA Docket No.: B-1702) | Unincorporated Areas of San Diego County (16-09-2974P) | The Honorable Ron Roberts, Chairman, Board of Supervisors, San Diego County, 1600 Pacific Highway, Room 335, San Diego, CA 92101 | Department of Public Works, Flood Control, 5510 Overland Avenue, Suite 410, San Diego, CA 92123 | Apr. 18, 2017 | 060284
San Joaquin (FEMA Docket No.: B-1702) | City of Lathrop (16-09-1660P) | The Honorable Sonny Dhaliwal, Mayor, City of Lathrop, 390 Towne Center Drive, Lathrop, CA 95330 | City Hall, 390 Towne Center Drive, Lathrop, CA 95330 | Apr. 19, 2017 | 060738
San Joaquin (FEMA Docket No.: B-1702) | Unincorporated Areas of San Joaquin County (16-09-2052P) | The Honorable Moses Zapien, Chairman, Board of Supervisors, San Joaquin County, 44 North San Joaquin Street, Suite 627, Stockton, CA 95202 | San Joaquin County, Stockton Courthouse, 222 East Weber Avenue, Stockton, CA 95202 | Apr. 14, 2017 | 060299
Santa Clara (FEMA Docket No.: B-1669) | City of Milpitas (16-09-1351P) | The Honorable Jose Esteves, Mayor, City of Milpitas, City Hall, 455 East Calaveras Boulevard, Milpitas, CA 95035 | Engineering Division, 455 East Calaveras Boulevard, Milpitas, CA 95035 | Feb. 21, 2017 | 060344
Ventura (FEMA Docket No.: B-1702) | Unincorporated Areas of Ventura County (16-09-2395P) | The Honorable Kathy I. Long, Chair, Board of Supervisors, Ventura County, 800 South Victoria Avenue, Ventura, CA 93009 | Ventura County Hall of Administration, 800 South Victoria Avenue, Ventura, CA 93009 | May 4, 2017 | 060413
Colorado:
Boulder (FEMA Docket No.: B-1669) | Town of Jamestown (16-08-0630P) | The Honorable Tara Schoedinger, Mayor, Town of Jamestown, P.O. Box 298, Jamestown, CO 80455 | Town Hall, 118 Main Street, Jamestown, CO 80455 | Feb. 23, 2017 | 080216
Boulder (FEMA Docket No.: B-1669) | Unincorporated Areas of Boulder County (16-08-0630P) | The Honorable Elise Jones, Chair, Boulder County Commissioners, P.O. Box 471, Boulder, CO 80306 | Boulder County Transportation Department, 2525 13th Street, Suite 203, Boulder, CO 80306 | Feb. 23, 2017 | 080023
Hawaii:
Maui (FEMA Docket No.: B-1669) | Maui County (16-09-0721P) | The Honorable Alan M. Arakawa, Mayor, County of Maui, 200 South High Street, Kalana O Maui Building, 9th Floor, Wailuku, HI 96793 | County of Maui Planning Department, 2200 Main Street, Suite 315, Wailuku, HI 96793 | Mar. 14, 2017 | 150003
Maui (FEMA Docket No.: B-1702) | Maui County (16-09-2405P) | The Honorable Alan M. Arakawa, Mayor, Maui County, 200 South High Street, Kalana O Maui Building, 9th Floor, Wailuku, HI 96793 | County of Maui Planning Department, 2200 Main Street, Suite 315, Wailuku, HI 96793 | Apr. 27, 2017 | 150003
Idaho: Ada (FEMA Docket No.: B-1669) | City of Eagle (16-10-1265P) | The Honorable Stan Ridgeway, Mayor, City of Eagle, P.O. Box 1520, Eagle, ID 83616 | City Hall, 310 East State Street, Eagle, ID 83616 | Mar. 23, 2017 | 160003
Illinois:
Adams (FEMA Docket No.: B-1662) | Unincorporated Areas of Adams County (16-05-1107P) | The Honorable Les Post, Chairman, Adams County Board, Adams County Courthouse, 101 North 54th Street, Quincy, IL 62305 | Adams County Courthouse, 101 North 54th Street, Quincy, IL 62305 | Jan. 3, 2017 | 170001
Cook (FEMA Docket No.: B-1662) | City of Countryside (15-05-6492P) | The Honorable Sean R. McDermott, Mayor, City of Countryside, 5550 East Avenue, Countryside, IL 60525 | Building Department, 5550 East Avenue, Countryside, IL 60525 | Dec. 30, 2016 | 170079
Cook (FEMA Docket No.: B-1662) | Unincorporated Areas of Cook County (15-05-6492P) | The Honorable Toni Preckwinkle, President, Cook County Board of Commissioners, 118 North Clark Street, Room 537, Chicago, IL 60602 | Cook County Building and Zoning Department, 69 West Washington Street, 21st Floor, Chicago, IL 60602 | Dec. 30, 2016 | 170054
Cook (FEMA Docket No.: B-1662) | Village of La Grange (15-05-6492P) | The Honorable Thomas E. Livingston, Village President, Village of La Grange, 53 South La Grange Road, La Grange, IL 60525 | Village Hall, 53 South La Grange Road, La Grange, IL 60525 | Dec. 30, 2016 | 170114
Cook (FEMA Docket No.: B-1669) | Village of Westchester (16-05-5494P) | The Honorable Sam D. Pulia, Village President, Village of Westchester, 10300 West Roosevelt Road, Westchester, IL 60154 | Building Department, 10300 West Roosevelt Road, Westchester, IL 60154 | Mar. 16, 2017 | 170170
La Salle (FEMA Docket No.: B-1669) | City of Peru (16-05-4827P) | The Honorable Scott J. Harl, Mayor, City of Peru, 1901 4th Street, Peru, IL 61354 | City Hall, 1901 4th Street, Peru, IL 61354 | Mar. 16, 2017 | 170406
McLean (FEMA Docket No.: B-1702) | Unincorporated Areas of McLean County (15-05-5246P) | The Honorable John McIntyre, Chairman, McLean County Board, 115 East Washington Street, Room 401, Bloomington, IL 61701 | McLean County Building and Zoning Department, 115 East Washington Street, Room M102, Bloomington, IL 61701 | Apr. 28, 2017 | 170931
Will (FEMA Docket No.: B-1669) | City of Lockport (16-05-6547P) | The Honorable Steven Streit, Mayor, City of Lockport, 222 East 9th Street, Lockport, IL 60441 | Public Works and Engineering, 17112 South Prime Boulevard, Lockport, IL 60441 | Mar. 17, 2017 | 170703
Indiana: Allen (FEMA Docket No.: B-1669) | City of Fort Wayne (16-05-3584P) | The Honorable Tom Henry, Mayor, City of Fort Wayne, 200 East Berry Street, Suite 420, Fort Wayne, IN 46802 | Department of Planning Services, 200 East Berry Street, Suite 150, Fort Wayne, IN 46802 | Mar. 10, 2017 | 180003
Iowa:
Woodbury (FEMA Docket No.: B-1702) | City of Sioux City (16-07-1823P) | The Honorable Bob Scott, Mayor, City of Sioux City, P.O. Box 447, Sioux City, IA 51102 | City Hall, Planning Division, 405 6th Street, Sioux City, IA 51102 | Apr. 7, 2017 | 190298
Woodbury (FEMA Docket No.: B-1702) | Unincorporated Areas of Woodbury County (16-07-1823P) | Mr. Jeremy Taylor, Woodbury County Chairperson, 620 Douglas Street, Room 104, Sioux City, IA 51101 | Woodbury County Courthouse, Office of Planning and Zoning, 620 Douglas Street, Sioux City, IA 51101 | Apr. 7, 2017 | 190536
Kansas:
Pottawatomie (FEMA Docket No.: B-1669) | Unincorporated Areas of Pottawatomie County (16-07-1702P) | The Honorable Robert Reece, County Administrator, Pottawatomie County, 207 North 1st Street, Westmoreland, KS 66549 | County Office Building, 207 North 1st Street, Westmoreland, KS 66549 | Mar. 10, 2017 | 200621
Riley (FEMA Docket No.: B-1669) | City of Manhattan (16-07-0749P) | The Honorable Usha Reddi, Mayor, City of Manhattan, 1101 Poyntz Avenue, Manhattan, KS 66502 | City Hall, 1101 Poyntz Avenue, Manhattan, KS 66502 | Feb. 17, 2017 | 200300
Riley (FEMA Docket No.: B-1669) | City of Manhattan (16-07-1702P) | The Honorable Usha Reddi, Mayor, City of Manhattan, 1101 Poyntz Avenue, Manhattan, KS 66502 | City Hall, 1101 Poyntz Avenue, Manhattan, KS 66502 | Mar. 10, 2017 | 200300
Riley (FEMA Docket No.: B-1669) | Unincorporated Areas of Riley County (16-07-0749P) | The Honorable Ben Wilson, Chair, Riley County Commissioner, 2488 Woodside Lane, Manhattan, KS 66503 | Riley County Office Building, 110 Courthouse Plaza, Manhattan, KS 66502 | Feb. 17, 2017 | 200298
Michigan:
Bay (FEMA Docket No.: B-1702) | City of Bay City (16-05-5551P) | The Honorable Kathleen L. Newsham, Mayor, City of Bay City, 409 North Linn Street, Bay City, MI 48706 | City Hall, 301 Washington Avenue, Bay City, MI 48708 | Mar. 10, 2017 | 260020
Macomb (FEMA Docket No.: B-1669) | Charter Township of Clinton (16-05-3582P) | The Honorable Bob Cannon, Township Supervisor, Clinton Township, 40700 Romeo Plank Road, Clinton Township, MI 48038 | City Hall, 40700 Romeo Plank Road, Clinton Township, MI 48038 | Feb. 9, 2017 | 260121
Macomb (FEMA Docket No.: B-1669) | City of Sterling Heights (16-05-3582P) | The Honorable Michael C. Taylor, Mayor, City of Sterling Heights, 40555 Utica Road, Sterling Heights, MI 48313 | City Hall, 40555 Utica Road, Sterling Heights, MI 48313 | Feb. 9, 2017 | 260128
Minnesota:
Anoka (FEMA Docket No.: B-1669) | City of Blaine (16-05-6101P) | The Honorable Thomas Ryan, Mayor, City of Blaine, 12147 Radisson Road, Northeast Blaine, MN 55449 | City Hall Offices, 10801 Town Square Drive, Northeast Blaine, MN 55449 | Mar. 3, 2017 | 270007
Mower (FEMA Docket No.: B-1669) | City of Austin (16-05-4681P) | The Honorable Tom Stiehm, Mayor, City of Austin, 500 4th Avenue Northeast, Austin, MN 55912 | City Hall, 500 4th Avenue Northeast, Austin, MN 55912 | Feb. 22, 2017 | 275228
St. Louis (FEMA Docket No.: B-1669) | City of Duluth (16-05-5620P) | The Honorable Emily Larson, Mayor, City of Duluth, 411 West 1st Street, Room 402, Duluth, MN 55802 | City Hall, 411 West 1st Street, Room 201, Duluth, MN 55802 | Mar. 22, 2017 | 270421
Missouri: St. Louis (FEMA Docket No.: B-1669) | City of Chesterfield (16-07-1325P) | The Honorable Bob Nation, Mayor, City of Chesterfield, 690 Chesterfield Parkway West, Chesterfield, MO 63017 | City Hall, 690 Chesterfield Parkway West, Chesterfield, MO 63017 | Mar. 9, 2017 | 290896
Nevada:
Clark (FEMA Docket No.: B-1669) | City of Henderson (16-09-1303P) | The Honorable Andy A. Hafen, Mayor, City of Henderson, City Hall, 240 South Water Street, Henderson, NV 89015 | Public Works Department, 240 South Water Street, Henderson, NV 89015 | Feb. 28, 2017 | 320005
Clark (FEMA Docket No.: B-1669) | City of Henderson (16-09-2671P) | The Honorable Andy A. Hafen, Mayor, City of Henderson, City Hall, 240 South Water Street, Henderson, NV 89015 | Public Works Department, 240 South Water Street, Henderson, NV 89015 | Mar. 7, 2017 | 320005
Clark (FEMA Docket No.: B-1669) | City of Henderson (16-09-2725P) | The Honorable Andy A. Hafen, Mayor, City of Henderson, City Hall, 240 South Water Street, Henderson, NV 89015 | Public Works Department, 240 South Water Street, Henderson, NV 89015 | Mar. 22, 2017 | 320005
Clark (FEMA Docket No.: B-1702) | City of Henderson (17-09-0011P) | The Honorable Andy A. Hafen, Mayor, City of Henderson, City Hall, 240 South Water Street, Henderson, NV 89015 | Public Works Department, 240 South Water Street, Henderson, NV 89015 | Apr. 28, 2017 | 320005
Clark (FEMA Docket No.: B-1669) | Unincorporated Areas of Clark County (16-09-1303P) | The Honorable Steve Sisolak, Chairman, Board of Supervisors, Clark County, 500 South Grand Central Parkway, 6th Floor, Las Vegas, NV 89106 | Office of the Director of Public Works, 500 South Grand Central Parkway, Las Vegas, NV 89155 | Feb. 28, 2017 | 320003
Elko (FEMA Docket No.: B-1702) | City of Elko (16-09-0367P) | The Honorable Chris J. Johnson, Mayor, City of Elko, 1751 College Avenue, Elko, NV 89801 | Development Department, 1755 College Avenue, Elko, NV 89801 | Apr. 3, 2017 | 320010
New York:
Ulster (FEMA Docket No.: B-1662) | Town of Saugerties (16-02-1922P) | The Honorable Gregory Helsmoortel, Town Supervisor, Town of Saugerties, 4 High Street, Saugerties, NY 12477 | Town of Saugerties Town Hall, 4 High Street, Saugerties, NY 12477 | Apr. 5, 2017 | 360863
Ulster (FEMA Docket No.: B-1669) | Town of Ulster (16-02-1921P) | The Honorable James E. Quigley 3rd, Supervisor, Town of Ulster, 1 Town Hall Drive, Lake Katrine, NY 12449 | Town Hall, 1 Town Hall Drive, Lake Katrine, NY 12449 | Apr. 5, 2017 | 360866
Ohio:
Delaware (FEMA Docket No.: B-1669) | Unincorporated Areas of Delaware County (16-05-4340P) | The Honorable Barb Lewis, Delaware County Board of Commissioners, 101 North Sandusky Street, Delaware, OH 43015 | Code Compliance Building, 50 Channing Street, South Wing, Delaware, OH 43015 | Mar. 15, 2017 | 390146
Lucas (FEMA Docket No.: B-1702) | City of Toledo (16-05-5662P) | The Honorable Paula Hicks-Hudson, Mayor, City of Toledo, 1 Government Center, Suite 2200, Toledo, OH 43604 | Department of Inspection, 1 Government Center, Suite 1600, Toledo, OH 43604 | May 5, 2017 | 395373
Oregon: Washington (FEMA Docket No.: B-1702) | City of Beaverton (16-10-1547P) | The Honorable Denny Doyle, Mayor, City of Beaverton, The Beaverton Building, 12725 Southwest Millikan Way, Beaverton, OR 97005 | Community Development Department, 4755 Southwest Griffith Drive, Beaverton, OR 97005 | Apr. 7, 2017 | 410240
Texas:
Dallas (FEMA Docket No.: B-1669) | City of Mesquite (16-06-3624P) | The Honorable Stan Pickett, Mayor, City of Mesquite, 757 North Galloway Avenue, Mesquite, TX 75149 | City Engineering Services, 1515 North Galloway Avenue, Mesquite, TX 75185 | Mar. 9, 2017 | 485490
Dallas (FEMA Docket No.: B-1669) | City of Mesquite (16-06-3625P) | The Honorable Stan Pickett, Mayor, City of Mesquite, 757 North Galloway Avenue, Mesquite, TX 75149 | City Engineering Services, 1515 North Galloway Avenue, Mesquite, TX 75185 | Mar. 10, 2017 | 485490
Dallas (FEMA Docket No.: B-1669) | Unincorporated Areas of Dallas County (16-06-3625P) | The Honorable Clay L. Jenkins, County Judge, Dallas County, 411 Elm Street, Dallas, TX 75202 | City Hall, 320 East Jefferson Boulevard, Room 321, Dallas, TX 75203 | Mar. 10, 2017 | 480165
Washington:
Island (FEMA Docket No.: B-1702) | Unincorporated Areas of Island County (16-10-1381P) | The Honorable Richard Hannold, Chair, Island County Commissioners, 1 Northeast 7th Street, Room 214, Coupeville, WA 98239 | Island County Courthouse Annex, 1 Northeast 6th Street, Coupeville, WA 98239 | Mar. 8, 2017 | 530312
Island (FEMA Docket No.: B-1702) | Unincorporated Areas of Island County (16-10-1641P) | The Honorable Richard Hannold, Chair, Island County Commissioners, 1 Northeast 7th Street, Room 214, Coupeville, WA 98239 | Island County Courthouse Annex, 1 Northeast 6th Street, Coupeville, WA 98239 | Apr. 20, 2017 | 530312
King (FEMA Docket No.: B-1662) | City of Auburn (16-10-1206P) | The Honorable Nancy Backus, Mayor, City of Auburn, 25 West Main Street, Auburn, WA 98001 | City Hall, 25 West Main Street, Auburn, WA 98001 | Mar. 8, 2017 | 530073
King (FEMA Docket No.: B-1662) | City of Pacific (16-10-1206P) | The Honorable Leanne Guier, Mayor, City of Pacific, 100 3rd Avenue Southeast, Pacific, WA 98047 | City Hall, 100 3rd Avenue Southeast, Pacific, WA 98047 | Mar. 8, 2017 | 530086
Wisconsin:
Dane (FEMA Docket No.: B-1669) | City of Madison (16-05-6112P) | The Honorable Paul R. Soglin, Mayor, City of Madison, 210 Martin Luther King Jr. Boulevard, Room 403, Madison, WI 53703 | City Hall, 210 Martin Luther King Jr. Boulevard, Room 403, Madison, WI 53703 | Mar. 10, 2017 | 550083
Dane (FEMA Docket No.: B-1702) | City of Verona (16-05-6316P) | The Honorable Jon Hochkammer, Mayor, City of Verona, City Hall, 111 Lincoln Street, Verona, WI 53593 | City Hall, 111 Lincoln Street, Verona, WI 53593 | Apr. 14, 2017 | 550092
Dane (FEMA Docket No.: B-1702) | Unincorporated Areas of Dane County (16-05-6316P) | Mr. Joe Parisi, County Executive, Dane County, City County Building, 210 Martin Luther King Jr. Boulevard, Room 421, Madison, WI 53703 | City County Building, 210 Martin Luther King Jr. Boulevard, Room 116, Madison, WI 53703 | Apr. 14, 2017 | 550077
Kenosha (FEMA Docket No.: B-1669) | Village of Pleasant Prairie (16-05-7542P) | The Honorable John Steinbrink, President, Village of Pleasant Prairie Village Hall, 9915 39th Avenue, Pleasant Prairie, WI 53158 | Village Hall, 9915 39th Avenue, Pleasant Prairie, WI 53158 | Mar. 23, 2017 | 550613

[FR Doc. 2017-16950 Filed 8-21-17; 8:45 am]

BILLING CODE 9110-12-P